DEPARTMENT OF COMMERCE

National Oceanic and Atmospheric Administration

[RTID 0648-XE708]

Endangered Species; File No. 27918

AGENCY: National Marine Fisheries Service (NMFS), National Oceanic and Atmospheric Administration (NOAA), Commerce.

ACTION: Notice; receipt of application.

SUMMARY: Notice is hereby given that Kristen Hart, Ph.D., U.S. Geological Survey, Wetlands and Aquatic Research Center, 3321 College Avenue, Davie, FL 33314, has applied in due form for a permit to take green (Chelonia mydas), Kemp's ridley (Lepidochelys kempii), loggerhead (Caretta caretta), and hawksbill (Eretmochelys imbricata) sea turtles for purposes of scientific research.

DATES: Written comments must be received on or before May 30, 2025.

ADDRESSES: The application and related documents are available for review by selecting “Records Open for Public Comment” from the “Features” box on the Applications and Permits for Protected Species home page, https://apps.nmfs.noaa.gov, and then selecting File No. 27918 from the list of available applications. These documents are also available upon written request via email to NMFS.Pr1Comments@noaa.gov.

Written comments on this application should be submitted via email to NMFS.Pr1Comments@noaa.gov. Please include File No. 27918 in the subject line of the email comment.

Those individuals requesting a public hearing should submit a written request via email to NMFS.Pr1Comments@noaa.gov. The request should set forth the specific reasons why a hearing on this application would be appropriate.

FOR FURTHER INFORMATION CONTACT: Amy Hapeman or Erin Markin, Ph.D., (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to determine sea turtle habitat use, movement, and behavioral patterns in study sites across the northern Gulf of America, Atlantic Ocean, and U.S. Virgin Islands. Researchers would capture sea turtles by hand, dip net, strike net, tangle net, cast net, or trawl and perform the following procedures prior to release: epibiota removal; instrument attachment (drill carapace or epoxy); gastric lavage; temporary carapace marking; flipper and passive integrated transponder tagging; measurements; photographs; biological sampling (blood, fecal, tissue, and swabs); tracking; and weighing. Some animals may receive up to 3 transmitter attachments at a time; such gear may be removed from animals during opportunistic recaptures. In addition, in lieu of directed captures, researchers may perform these methods on animals legally caught during relocation trawling efforts. See the application's take table for take numbers by species. The permit would be valid for 10 years.

Dated: April 25, 2025.
Julia M. Harrison,
Chief, Permits and Conservation Division, Office of Protected Resources, National Marine Fisheries Service.

[FR Doc. 2025-07461 Filed 4-29-25; 8:45 am]

BILLING CODE 3510-22-P